DEPARTMENT OF THE INTERIOR

Minerals Management Service

Environmental Documents Prepared for Proposed Oil and Gas Operations on the Gulf of Mexico Outer Continental Shelf (OCS)

AGENCY: Minerals Management Service, Interior.

ACTION: Notice of the availability of environmental documents; prepared for OCS mineral proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
Anadarko Petroleum Corporation & Partners, Surface Facilities & Subsea Development Project SEA MMS2005-064 | Independence Hub Project located in the Eastern and Central Planning Areas, Gulf of Mexico | 11/09/2005
ConocoPhillips, Tension Leg Well Platform Decommissioning SEA Complex ID 23583 | Green Canyon, Block 184, Lease OCS-G 04518, located 99 miles from the nearest Louisiana shoreline | 12/15/2005
Chevron U.S.A., Inc., Structure Removal SEA ES/SR 06-025 | Ship Shoal, Block 208, Lease OCS-G 01228, located 34 miles from the nearest Louisiana shoreline | 7/11/2006
Chevron U.S.A., Inc., Structure Removal SEA ES/SR 06-072 | Vermilion, Block 24, Lease OCS-G 03543, located 6 miles from the nearest Louisiana shoreline | 7/13/2006
Chevron U.S.A., Inc., Structure Removal SEA ES/SR 06-023, 06-024 | Ship Shoal, Block 169, Lease OCS-G 00820, located 35 miles from the nearest Louisiana shoreline | 7/14/2006
Mariner Energy, Inc., Structure Removal SEA ES/SR 06-081, 06-082 | West Cameron, Block 312, Lease OCS-G 07613, located 40 miles from the nearest Louisiana shoreline | 7/14/2006
Millennium Offshore Group Inc., Structure Removal SEA ES/SR 06-079 | Main Pass, Block 225, Lease OCS-G 14581, located 54 miles from the nearest Louisiana shoreline | 7/18/2006
Chevron U.S.A., Inc., Structure Removal SEA ES/SR 06-080 | Vermilion, Block 24, Lease OCS-G 03542, located 6 miles from the nearest Louisiana shoreline | 7/18/2006
Apache Corporation, Structure Removal SEA ES/SR 06-073 | Eugene Island, Block 46, Lease OCS-G 13617, located 22 miles from the nearest Louisiana shoreline | 7/19/2006
Millennium Offshore Group, Inc., Structure Removal SEA ES/SR 06-077 | East Cameron, Block 171, Lease OCS-G 12836, located 53 miles from the nearest Louisiana shoreline | 7/20/2006
Apache Corporation, Structure Removal SEA ES/SR 06-074 | Eugene Island, Block 167, Lease OCS-G 11953, located 34 miles from the nearest Louisiana shoreline | 7/20/2006
Apache Corporation, Structure Removal SEA ES/SR 06-076 | Grand Isle, Block 082, Lease OCS-G 05659, located 29 miles from the nearest Louisiana shoreline | 7/20/2006
SPN Resources, LLC, Permit to Modify Removal of Well No.10 Dry Hole Drive Pipe with Internal Casings SEA 177114101700 | Ship Shoal, Block 167, Lease OCS-G 00818, located 28 miles from the nearest Louisiana shoreline | 7/20/2006
Apache Corporation, Structure Removal SEA ES/SR 06-075 | Ship Shoal, Block 187, Lease OCS-G 18013, located 96 miles from the nearest Louisiana shoreline | 7/20/2006
Global GeoServices, Geological & Geophysical Exploration for Mineral Resources SEA M06-03, 06-04, 06-05 | Located in the eastern Gulf of Mexico south of Apalachicola, Florida | 7/24/2006
Millennium Offshore Group, Inc., Structure Removal SEA ES/SR 06-078 | High Island, Block 312, Lease OCS-G 14913, located 117 miles from the nearest Texas shoreline | 7/25/2006
Sampson Contour Energy E & P, Structure Removal SEA ES/SR 06-047 | Vermilion, Block 217, Lease OCS-G 01141, located 58 miles from the nearest Louisiana shoreline | 7/25/2006
Newfield Exploration Company, Structure Removal SEA ES/SR 06-095 | East Cameron, Block 286, Lease OCS-G 02051, located 85 miles from the nearest Louisiana shoreline | 7/27/2006
BP Exploration & Production, Inc., Geological & Geophysical Exploration for Mineral Resources SEA L06-38 | Located in the central Gulf of Mexico south of Morgan City, Louisiana | 7/27/2006
PGS Exploration (UK) LTD., Geological & Geophysical Exploration for Mineral Resources SEA T06-19 | Located in the central Gulf of Mexico south of Morgan City, Louisiana | 7/27/2006
Stone Energy Corporation, Structure Removal SEA ES/SR 06-083 | Vermilion, Block 131, Lease OCS-G 00775, located 32 miles from the nearest Louisiana shoreline | 7/27/2006
Tri-Union Development Corporation, Structure Removal SEA ES/SR 06-084 | South Timbalier, Block 162, Lease OCS-G 01249, located 33 miles from the nearest Louisiana shoreline | 7/31/2006
Century Exploration New Orleans, Inc., Structure Removal SEA ES/SR 06-085, 06-086, 06-087, 06-088, 06-089, 06-090 | West Cameron, Blocks 367, 368 & 369, Leases OCS-G 21054, 05315 & 22544 respectively, located 60 miles from the nearest Louisiana shoreline | 7/31/2006
Palace Operating Company, Structure Removal SEA ES/SR 06-096 | Chandeleur, Block 13, Lease OCS-G 25042, located 33 miles from the nearest Louisiana shoreline | 8/02/2006
Mariner Energy, Inc., Structure Removal SEA ES/SR 06-106 | East Cameron, Block 294, Lease OCS-G 17874, located 81 miles from the nearest Louisiana shoreline | 8/03/2006
El Paso Production Company, Structure Removal SEA ES/SR 06-092 | Eugene Island, Block 53, Lease OCS-G 00479, located 15 miles from the nearest Louisiana shoreline | 8/04/2006
Mariner Energy Resources, Inc., Structure Removal SEA ES/SR 06-093, 06-094 | South Marsh Island, Block 11, Lease OCS-G 01182, located 37 miles from the nearest Louisiana shoreline | 8/04/2006
Hunt Oil Company, Structure Removal SEA ES/SR 06-097, 06-098 | Eugene Island, Blocks 77 & 62, Leases 0CS-G 00466 & 00424, located 12 miles from the nearest Louisiana shoreline | 8/08/2006
Maritech Resources, Inc., Structure Removal SEA ES/SR 06-027 | South Marsh Island (South), Block 125, Lease OCS-G 02882, located 73 miles from the nearest Louisiana shoreline | 8/10/2006
Union Oil Company of California, Structure Removal SEA ES/SR 06-099 | Cameron, Block 195, Lease OCS-G 16123, located 41 miles from the nearest Louisiana shoreline | 8/14/2006
Chevron U.S.A. Inc., Structure Removal SEA ES/SR 06-022 | Eugene Island (South), Block 313, Lease OCS-G 02608, located 73 miles from the nearest Louisiana shoreline | 8/14/2006
Chevron U.S.A. Inc., Structure Removal SEA ES/SR 94-021 | Eugene Island, Block 238, Lease OCS-G 00982, located 48 miles from the nearest Louisiana shoreline | 8/14/2006
Energy Resources Technology, Inc., Structure Removal SEA ES/SR 06-110 | South Timbalier, Block 146, Lease OCS-G 18041, located 34 miles from the nearest Louisiana shoreline | 8/15/2006
Marlin Energy Offshore, LLC, Structure Removal SEA ES/SR 06-107 | South Timbalier Area, Block 21, Lease OCS-G 00263, located 4 miles from the nearest Louisiana shoreline | 8/15/2006
Energy Resources Technology, Inc., Structure Removal SEA ES/SR 06-109 | Vermilion, Block 201, Lease OCS-G 02075, located 52 miles from the nearest Louisiana shoreline | 8/15/2006
Apex Oil & Gas, Inc., Structure Removal SEA ES/SR 06-117 | Galveston, Block A-50, Lease OCS-G 12520, located 43 miles from the nearest Texas shoreline | 8/16/2006
Maritech Resources, Inc., Structure Removal SEA ES/SR 06-108 | High Island, Block 208, Lease OCS-G 07286, located 25 miles from the nearest Texas shoreline | 8/16/2006
Mariner Energy, Inc., Structure Removal SEA ES/SR 06-100, 06-101, 06-102, 06-103, 06-104 | West Cameron, Blocks 312 and 313, Leases OCS-G 05303 and 07613, located 45 miles from the nearest Louisiana shoreline | 8/18/2006
Maritech Resources, Inc., Structure Removal SEA ES/SR 06-111 | Galveston, Block 273, Lease OCS-G 09037, located 14 miles from the nearest Texas shoreline | 8/22/2006
Maritech Resources, Inc., Structure Removal SEA ES/SR 06-121 | Matagorda Island, Block 688, Lease OCS-G 08548, located 14 miles from the nearest Texas shoreline | 8/22/2006
Apache Corporation, Structure Removal SEA ES/SR 06-049 | Mustang Island, Block A85, Lease OCS-G 03061, located 47 miles from the nearest Texas shoreline | 8/22/2006
Maritech Resources, Inc., Structure Removal SEA ES/SR 01-038B | Eugene Island (South Addition), Block 305, OCS-G 02108, located 73 miles from the nearest Louisiana shoreline | 8/23/2006
F-W Oil Exploration L.L.C., Structure Removal SEA ES/SR 06-123 | North Padre Island, Block 996, OCS-G 23130, located 25 miles from the nearest Texas shoreline | 8/23/2006
Targa Midstream Services Limited, Structure Removal SEA ES/SR 98-061A | West Cameron, Block 229, Lease OCS-G 01856, located 42 miles from the nearest Louisiana shoreline | 8/23/2006
Mariner Energy, Inc., Structure Removal SEA ES/SR 06-124 | West Cameron, Block 315, Lease OCS-G 08407, located 40 miles from the nearest Louisiana shoreline | 8/23/2006
Stone Energy Corporation, Structure Removal SEA ES/SR 06-122 | East Cameron, Block 64, Lease OCS-G 00089, located 22 miles from the nearest Louisiana shoreline | 8/24/2006
Dominion Exploration & Production, Inc., Permit to Modify Removal of Well No. WC-132-001 (API No. 177004124500) and Well No. WC-202-001 (API No. 177004124202) and associated temporary caissons, SEA WC202-132 | West Cameron, Blocks 132 & 202, Leases OCS-G 27003 & 24718, located 48 miles from the nearest Louisiana shoreline | 8/25/2006
Apex Oil and Gas, Inc., Structure Removal SEA ES/SR 06-125 | Vermilion, Block 89, Lease OCS-G 22615, located 24 miles from the nearest Louisiana shoreline | 8/28/2006
Stone Energy, Structure Removal SEA ES/SR 06-126 | West Cameron, Block 176, Lease OCS-G 00762, located 23 miles from the nearest Louisiana shoreline | 9/06/2006
Dominion Exploration & Production, Inc., Structure Removal SEA ES/SR 06-130 | West Cameron, Block 225, Lease OCS-G 00900, located 40 miles from the nearest Louisiana shoreline | 9/15/2006
Stone Energy Corporation, Structure Removal SEA ES/SR 06-128 | West Cameron, Block 56, Lease OCS-G 00301, located 10 miles from the nearest Louisiana shoreline | 9/15/2006
Chevron USA, Inc., Initial Development Operations Coordination SEA N-8693 | Mississippi Canyon, Blocks 650 (unleased), 695 & 696, Leases OCS-G 21182 & 16641 respectively, located in the central Gulf of Mexico approximately 70 miles from the nearest Louisiana shoreline | 9/19/2006
Devon Energy Production Company, L.P., Structure Removal SEA ES/SR 06-132 | South Marsh Island, Block 128, Lease OCS-G 02587, located 74 miles from the nearest Louisiana shoreline | 9/21/2006
Forest Oil Corporation, Structure Removal SEA ES/SR 06-005 | Eugene Island, Block 266, Lease OCS 00911, located 61 miles from the nearest Louisiana shoreline | 9/22/2006

Persons interested in reviewing environmental documents for the proposals listed above or obtaining information about SEAs and FONSIs prepared for activities on the Gulf of Mexico OCS are encouraged to contact MMS at the address or telephone listed in the FOR FURTHER INFORMATION CONTACT section.

Dated: October 5, 2006.
Chris C. Oynes,
Regional Director, Gulf of Mexico OCS Region.

[FR Doc. E6-18731 Filed 11-6-06; 8:45 am]

BILLING CODE 4310-MR-P